DEPARTMENT OF LABOR

Occupational Safety and Health Administration

[Docket No. OSHA-2018-0005]

Whistleblower Stakeholder Meeting: Outreach and Training

AGENCY: Occupational Safety and Health Administration (OSHA), Labor.

ACTION: Notice of public meeting.

SUMMARY: The Occupational Safety and Health Administration (OSHA) is announcing a public meeting to solicit comments and suggestions from stakeholders on its outreach and training efforts in support of the whistleblower laws it enforces.

DATES: The public meeting will be held on May 10, 2023, from 1:00 p.m. to 4:00 p.m., ET via Zoom. Persons interested in attending the meeting must register by May 3, 2023. In addition, comments relating to the “Scope of Meeting” section of this document must be submitted by May 24, 2023.

ADDRESSES:

Electronically: You may submit materials, including attachments, electronically at http://www.regulations.gov, which is the Federal eRulemaking portal. Follow the on-line instructions for submissions. All comments should be identified with Docket No. OSHA-2018-0005.

Registration to Attend and/or to Participate in the Meeting: If you wish to attend the public meeting, make an oral presentation at the meeting, or participate in the meeting, you must register using this link https://www.eventbrite.com/e/whistleblower-outreach-stakeholder-meeting-tickets-558199739447 or this link for registration in Spanish https://www.eventbrite.com/e/entradas-reunion-para-partes-interesadas-sobre-los-denunciantes-que-son-trabajadores-558210240857 by close of business on May 3, 2023. Each participant will be allowed to speak for up to 5 minutes. If there is extra time at the end of the meeting, participants may be given extra time to speak. There is no fee to register for the public meeting. After reviewing the requests to present, OSHA will contact each participant prior to the meeting to inform them of the speaking order. We will provide Spanish-language translation.

FOR FURTHER INFORMATION CONTACT:

For press inquiries: Mr. Frank Meilinger, Director, OSHA Office of Communications, U.S. Department of Labor; telephone: (202) 693-1999; email: meilinger.francis2@dol.gov.

For general information: Ms. Meghan Smith, Program Analyst, OSHA Directorate of Whistleblower Protection Programs, U.S. Department of Labor; telephone: (202) 693-2199; email: osha.dwpp@dol.gov.

SUPPLEMENTARY INFORMATION:

A. Scope of Meeting

OSHA is interested in obtaining information from the public on key issues facing the agency's whistleblower program. This meeting is part of an ongoing series of meetings requesting public input on this program. The agency is seeking suggestions on how it can improve its outreach and training efforts in the Whistleblower Protection program. Please note that the agency does not have the authority to change the statutory language and requirements of the laws it enforces. In particular, the agency invites input on the following:

1. What can the agency do to improve the Whistleblower Protection Program's website, www.whistleblowers.gov?

2. What additional materials would be beneficial for the agency to make publicly available on its website?

3. What types of whistleblower training videos or presentations would be useful for the public to better understand the whistleblower laws enforced by OSHA?

4. How can OSHA better engage with complainants and respondents?

B. Request for Comments

Regardless of attendance at the public meeting, interested persons may submit written or electronic comments (see ADDRESSES above). Electronic comments include recorded oral comments. Comments may be submitted in any language. To permit time for interested persons to submit data, information, or views on the issues in the “Scope of Meeting” section of this notice, please submit comments by May 24, 2023, and include Docket No. OSHA-2018-0005. If you have questions regarding how to submit comments, please contact osha.dwpp@dol.gov or 202-693-2199.

C. Access to the Public Record

Electronic copies of this Federal Register notice are available at: http://www.regulations.gov. This notice, as well as news releases and other relevant information, is also available on the Directorate of Whistleblower Protection Programs' web page at: http://www.whistleblowers.gov.

Authority and Signature

James S. Frederick, Deputy Assistant Secretary for Occupational Safety and Health, authorized the preparation of this notice under the authority granted by section 11(c) of the Occupational Safety and Health Act of 1970 (29 U.S.C. 660(c)); Secretary's Order 08-2020 (May 15, 2020).

Signed at Washington, DC.
James. S. Frederick,
Deputy Assistant Secretary of Labor for Occupational Safety and Health.

[FR Doc. 2023-06946 Filed 4-3-23; 8:45 am]

BILLING CODE 4510-26-P